DEPARTMENT OF ENERGY

Federal Energy Regulatory Commission

Combined Notice of Filings #2

Take notice that the Commission received the following electric rate filings:

Docket Numbers: ER15-2013-008; ER15-2020-006; ER19-2250-001.

Applicants: Talen Energy Marketing, LLC, Talen Montana, LLC, TrailStone Energy Marketing, LLC.

Description: Updated Market Power Analysis of Talen Energy Marketing, LLC, et al.

Filed Date: 12/9/19.

Accession Number: 20191209-5147.

Comments Due: 5 p.m. ET 2/7/20.

Docket Numbers: ER20-545-000.

Applicants: Southern California Edison Company.

Description: § 205(d) Rate Filing: GIA & DSA Bates Ranch Deer Creek Hydro Project SA Nos. 1094-1095 to be effective 11/22/2019.

Filed Date: 12/9/19.

Accession Number: 20191209-5082.

Comments Due: 5 p.m. ET 12/30/19.

Docket Numbers: ER20-546-000.

Applicants: Alabama Power Company.

Description: § 205(d) Rate Filing: Thundering Springs Solar LGIA Filing to be effective 11/25/2019.

Filed Date: 12/9/19.

Accession Number: 20191209-5095.

Comments Due: 5 p.m. ET 12/30/19.

Docket Numbers: ER20-547-000.

Applicants: Goldman Sachs Renewable Power Marketing LLC.

Description: Baseline eTariff Filing: MBR Application to be effective 1/2/2020.

Filed Date: 12/9/19.

Accession Number: 20191209-5113.

Comments Due: 5 p.m. ET 12/30/19.

Docket Numbers: ER20-548-000.

Applicants: California Independent System Operator Corporation.

Description: § 205(d) Rate Filing: 2019-12-09 Local Capacity Technical Study Criteria Update Tariff Amendment to be effective 2/1/2020.

Filed Date: 12/9/19.

Accession Number: 20191209-5114.

Comments Due: 5 p.m. ET 12/30/19.

Docket Numbers: ER20-549-000.

Applicants: PJM Interconnection, L.L.C.

Description: § 205(d) Rate Filing: Amendment of ISA SA No. 5220 (consent); ISA SA No. 5345; Queue No. W2-048/X2-022 to be effective 9/27/2018.

Filed Date: 12/9/19.

Accession Number: 20191209-5149.

Comments Due: 5 p.m. ET 12/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2019.
Nathaniel J. Davis, Sr.,
Deputy Secretary.

[FR Doc. 2019-27084 Filed 12-16-19; 8:45 am]

BILLING CODE 6717-01-P